DEPARTMENT OF THE INTERIOR

National Park Service

National Register of Historic Places; Notification of Pending Nominations

Nominations for the following properties being considered for listing in the National Register were received by the National Park Service before May 24, 2003. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, (202) 371-6447. Written or faxed comments should be submitted by July 3, 2003.

Carol D. Shull,
Keeper of the National Register of Historic Places.

AMERICAN SAMOA

Eastern District

Thompson, Sadie, Building, along main road, Malaloa, 03000582.

CALIFORNIA

Madera County

Gerry Building, 910 S. Los Angeles St., Los Angeles, 03000583.

DISTRICT OF COLUMBIA

District of Columbia

Capitol Hill Historic District (Boundary Increase), Roughly bounded by 7th St. NE, I-295, M St. SE and 11th St. SE, Washington, 03000585.

Connecticut Avenue Bridge, Connecticut Ave., NW., of Rock Creek, Washington, 03000584.

GEORGIA

Jeff Davis County

Pace House, 61 E. Coffee St., Hazlehurst, 03000591.

IDAHO

Lincoln County

Wood River Center Grange No. 87, 375 W 4 Mile Rd., Shoshone, 03000586.

MISSISSIPPI

Bolivar County

Downtown Cleveland Historic District (Boundary Increase), 201 S. Court St. and 200-215 N. Pearman Ave., Cleveland, 03000588.

Coahoma County

Clark, John, House, 211 Clark St., Clarksdale, 03000589.

Lauderdale County

Terminal Building, Old, Hangar and Powerhouse at Key Field, 2525 U.S. 11 S, Meridian, 03000587.

NEW YORK

Allegany County

Belmont Literary and Historical Society Free Library, 2 Willets Ave., Belmont, 03000599.

Bolivar Free Library, 390 Main St., Bolivar, 03000606.

Cattaraugus County

Bedford Corners Historic District, NY 305 at Deer Creek and Dodge Creek Rds., Portville, 03000590.

Bryant Hill Cemetery, Bryant Hill Rd. near Crane Rd., Ellicottville, 03000605.

Columbia County

Clermont Civic Historic District, (Clermont MRA) 1795 US 9, Clermont, 03000604.

Erie County

Reformed Mennonite Church, Former, 5178 Main St., Williamsville, 03000596.

Nassau County

Underhill, George, House, 28 Factory Pond Rd., Locust Valley, 03000592.

Onondaga County

Fuller, James and Lydia Canning, House, (Freedom Trail, Abolitionism, and African American Life in Central New York MPS) W. Genesee St., Skaneateles, 03000595.

Rensselaer County

Sherman Farm, 35 Sherman Rd., Pittstown, 03000597.

Rockland County

Perry, Jacob P., House, 15 Sickeletown Rd., Pearl River, 03000594.

Saratoga County

First United Methodist Church, 36 Second St., Lion, 03000601.

Steuben County

Wombough, William, House, 145 E. Front St., Addison, 03000593.

Tioga County

Waverly Village Hall, 358-360 Broad St., Waverly, 03000600.

Ulster County

Childs, Walstein, House, Sand Hill Rd., Wallkill Correctional Facility, Wallkill, 03000602.

Forsyth, James and Mary, House, 31 Albany Ave., Kingston, 03000603.

Westchester County

St. Peter's Episcopal Church, 137 N. Division St., Peekskill, 03000598.

NORTH CAROLINA

Dare County

Bodie Island Light Station, Off NC 12, Nags Head, 03000607.

OHIO

Summit County

Lutz—Martin Farm, 2470 Martin Rd., Bath, 03000608.

SOUTH DAKOTA

Lake County

Lake Badus Rural Agricultural Historic District, Roughly bounded by US 81, Cty Rte. 16, Cty Rte. 37, and Cty Rte 20, Nunda, 03000609.

TEXAS

Gonzales County

Spooner, Thomas Harrison and Mollie, House, 207 St. Francis St., Gonzales, 03000610.

The following resource is being REMOVED for procedural error:

NORTH CAROLINA

Pitt County

Greenville Commercial Historic District, Roughly bounded by West Third, South Evans and East and West Fifth St.s, Greenville 03000419.

A request for a MOVE has been made for the following resource:

LOUISIANA

St. John the Baptist Parish

Graugnard House, 2294 LA 44, Reserve vicinity, 94001249.

[FR Doc. 03-15310 Filed 6-17-03; 8:45 am]

BILLING CODE 4312-51-P